DEPARTMENT OF THE TREASURY

Office of Thrift Supervision

12 CFR Parts 506, 516, 541, 560, 563, 564, 567 and 570

[No. 2004-59]

Technical Amendments

AGENCY: Office of Thrift Supervision, Treasury.

ACTION: Final rule.

SUMMARY: The Office of Thrift Supervision (OTS) is amending its regulations to incorporate a number of technical and conforming amendments. They include clarifications and corrections of typographical errors.

EFFECTIVE DATE: December 22, 2004.

FOR FURTHER INFORMATION CONTACT: Marilyn K. Burton, Senior Paralegal (Regulations), (202) 906-6467, or Karen A. Osterloh, Special Counsel, (202) 906-6639, Regulations and Legislation Division, Chief Counsel's Office, Office of Thrift Supervision, 1700 G Street, NW., Washington, DC 20552.

SUPPLEMENTARY INFORMATION: OTS is amending its regulations to incorporate a number of technical and conforming amendments. OTS is making the following miscellaneous changes:

• Part 506—Information Collection Requirements under the Paperwork Reduction Act (PRA). The final rule updates the table displaying the OMB control numbers assigned to various OTS regulations under the PRA by correcting references to two control numbers. See 12 CFR 506.1(b).

• Part 516—Application Processing Guidelines and Procedures. The final rule updates § 516.40 to include the current address for OTS's Northeast Regional Offices and makes technical changes to the addresses for OTS's Midwest and West Regions.

• Part 541—Definitions for Regulations Affecting Federal Savings Associations. The final rule revises the definition of single family dwelling in § 541.25 to conform to the structure of other definitions in the part.

• Part 560—Lending and Investment. The final rule corrects a typographical error in § 560.93(b)(9).

• Part 563—Savings Associations—Operations. The final rule corrects a typographical error in § 563.43(f).

• Part 564—Appraisals. The final rule removes an outdated note from part 564.

• Parts 567—Capital. This final rule reinstates subsections (a)(2)(v)(B) and (C) to § 567.6, which were inadvertently removed by the final rule published on July 28, 2004 (69 FR 44908).

• Part 570—Safety and Soundness Guidelines and Compliance Procedures. The final rule updates references in § 570.1(c).

Administrative Procedure Act; Riegle Community Development and Regulatory Improvement Act of 1994

OTS finds that there is good cause to dispense with prior notice and comment on this final rule and with the 30-day delay of effective date mandated by the Administrative Procedure Act.¹ OTS believes that these procedures are unnecessary and contrary to public interest because the rule merely makes technical changes to existing provisions. Because the amendments in the rule are not substantive, these changes will not affect savings associations.

¹ 5 U.S.C. 553.

Section 302 of the Riegle Community Development and Regulatory Improvement Act of 1994 provides that regulations that impose additional reporting, disclosure, or other new requirements may not take effect before the first day of the quarter following publication. ² This section does not apply because this final rule imposes no additional requirements and makes only technical changes to existing regulations.

² Pub. L. No. 103-325, 12 U.S.C. 4802.

Regulatory Flexibility Act

Pursuant to section 605(b) of the Regulatory Flexibility Act,³ the OTS Director certifies that this technical corrections regulation will not have a significant economic impact on a substantial number of small entities.

³ Pub. L. No. 96-354, 5 U.S.C. 601.

Executive Order 12866

OTS has determined that this rule is not a “significant regulatory action” for purposes of Executive Order 12866.

Unfunded Mandates Reform Act of 1995

OTS has determined that the requirements of this final rule will not result in expenditures by State, local, and tribal governments, or by the private sector, of $100 million or more in any one year. Accordingly, a budgetary impact statement is not required under section 202 of the Unfunded Mandates Reform Act of 1995.

List of Subjects

12 CFR Part 506

Reporting and recordkeeping requirements.

12 CFR Part 516

Administrative practice and procedure, Reporting and recordkeeping requirements, Savings associations.

12 CFR Part 541

Savings associations.

12 CFR Part 560

Consumer protection, Investments, Manufactured homes, Mortgages, Reporting and recordkeeping requirements, Savings associations, Securities.

12 CFR Part 563

Accounting, Advertising, Crime, Currency, Investments, Reporting and recordkeeping requirements, Savings associations, Securities, Surety bonds.

12 CFR Part 564

Appraisals, Mortgages, Real estate appraisal, Reporting and recordkeeping requirements, Savings associations.

12 CFR Part 567

Capital, Savings associations.

12 CFR Part 570

Accounting, Administrative practice and procedure, Bank deposit insurance, Holding companies, Reporting and recordkeeping requirements, Safety and soundness, Savings associations.

Accordingly, the Office of Thrift Supervision amends title 12, chapter V of the Code of Federal Regulations, as set forth below.

PART 506—INFORMATION COLLECTION REQUIREMENTS UNDER THE PAPERWORK REDUCTION ACT

1. The authority citation for part 506 continues to read as follows:

Authority: 44 U.S.C. 3501 et seq.

2. Amend the table in § 506.1(b) by revising the entries for §§ 544.2 and 559.11 to read as follows:

§ 506.1 OMB control numbers assigned pursuant to the Paperwork Reduction Act.

* * * * *

(b) Display.

12 CFR part or section where identified and described | Current OMB control No.
* * * * *
544.2 | 1550-0018
* * * * *
559.11 | 1550-0077
* * * * *

PART 516—APPLICATION PROCESSING PROCEDURES

3. The authority citation for part 516 continues to read as follows:

Authority: 5 U.S.C. 552, 559; 12 U.S.C. 1462a, 1463, 1464, 2901 et seq.

4. Revise the Office Addresses for the Northeast, Midwest and West Regions in the chart at § 516.40(a)(2) to read as follows:

§ 516.40 Where do I file my application?

(a) * * *

(2) The addresses of each Regional Office and the states covered by each office are:

Region | Office address | States served
Northeast | Office of Thrift Supervision, Harborside Financial Center Plaza Five, Suite 1600, Jersey City, New Jersey 07311 | * * * * *
* * * * * * *
Midwest | Office of Thrift Supervision, 225 E. John Carpenter Freeway, Suite 500, Irving, Texas 75062-2326 (Mail to: P.O. Box 619027, Dallas/Ft. Worth, Texas 75261-9027) | * * * * *
West | Office of Thrift Supervision, Pacific Plaza, 2001 Junipero Serra Boulevard, Suite 650, Daly City, California 94014-1976 (Mail to: P.O. Box 7165, San Francisco, California 94120-7165) | * * * * *

* * * * *

PART 541—DEFINITIONS FOR REGULATIONS AFFECTING FEDERAL SAVINGS ASSOCIATIONS

5. The authority citation for part 541 continues to read as follows:

Authority: 12 U.S.C. 1462a, 1463, 1464.

6. Revise § 541.25 to read as follows:

§ 541.25 Single-family dwelling.

The term single-family dwelling means a structure designed for residential use by one family, or a unit so designed, whose owner owns, directly or through a non-profit cooperative housing organization, an undivided interest in the underling real estate, including property owned in common with others which contributes to the use and enjoyment of the structure or unit.

PART 560—LENDING AND INVESTMENT

7. The authority citation for part 560 continues to read as follows:

Authority: 12 U.S.C. 1462, 1462a, 1463, 1464, 1467a, 1701j-3, 1828, 3803, 3806; 42 U.S.C. 4106.

§ 560.93 [Amended]

8. Amend § 560.93(b)(9) by removing “§ 541.20” and by adding in lieu thereof “§ 541.25”.

PART 563—SAVINGS ASSOCIATIONS—OPERATIONS

9. The authority citation for part 563 continues to read as follows:

Authority: 12 U.S.C. 375b, 1462, 1462a, 1463, 1464, 1467a, 1468, 1817, 1820, 1828, 1831o, 3806; 31 U.S.C. 5318; 42 U.S.C. 4106.

§ 563.43 [Amended]

10. Amend § 563.43(f) by removing “§ 563.93(b)(11)” and by adding in lieu thereof “§ 560.93(b)(11)”.

PART 564—APPRAISALS

11. The authority citation for part 564 continues to read as follows:

Authority: 12 U.S.C. 1462, 1462a, 1463, 1464, 1828(m), 3331 et seq.

PART 564—[AMENDED]

12. Amend part 564 by removing the note immediately following the authority citations.

PART 567—CAPITAL

13. The authority citation for part 567 continues to read as follows:

Authority: 12 U.S.C. 1462, 1462a, 1463, 1464, 1467a, 1828 (note)

14. Revise § 567.6(a)(2)(v) to read as follows:

§ 567.6 Risk-based capital credit risk-weight categories.

(a) * * *

(2) * * *

(v) Zero percent credit conversion factor (Group E). (A) Unused portions of commitments with an original maturity of one year or less, except for eligible ABCP liquidity facilities;

(B) Unused commitments with an original maturity greater than one year, if they are unconditionally cancelable at any time at the option of the savings association and the savings association has the contractual right to make, and in fact does make, either:

(1) A separate credit decision based upon the borrower's current financial condition before each drawing under the lending facility; or

(2) An annual (or more frequent) credit review based upon the borrower's current financial condition to determine whether or not the lending facility should be continued; and

(C) The unused portion of retail credit card lines or other related plans that are unconditionally cancelable by the savings association in accordance with applicable law.

* * * * *

PART 570—SAFETY AND SOUNDNESS GUIDELINES AND COMPLIANCE PROCEDURES

15. In the Table of Contents for part 570, the heading for appendix B is revised by removing “Interagency Guidelines Establishing Year 2000 Standards for Safety and Soundness” and inserting “Interagency Guidelines Establishing Standards for Safeguarding Customer Information”.

16. The authority citation for part 570 continues to read as follows:

Authority: 12 U.S.C. 1831p-1.

17. Revise § 570.1(c) to read as follows:

§ 570.1 Authority, purpose, scope and preservation of existing authority.

* * * * *

(c) Scope. This part and the Interagency Guidelines Establishing Standards for Safety and Soundness as set forth at appendix A to this part and the Interagency Guidelines Establishing Standards for Safeguarding Customer Information at appendix B to this part implement the provisions of section 39 of the FDI Act as they apply to savings associations.

* * * * *

Dated: December 17, 2004.
By the Office of Thrift Supervision.
James E. Gilleran,
Director.

[FR Doc. 04-27978 Filed 12-21-04; 8:45 am]

BILLING CODE 6720-01-P